DEPARTMENT OF STATE

[Public Notice 8625]

U.S. Department of State Advisory Committee on Private International Law (ACPIL); Public Meeting on Arbitration

The Office of the Assistant Legal Adviser for Private International Law, Department of State, gives notice of a public meeting to discuss possible topics for future work related to arbitration or conciliation in the United Nations Commission on International Trade Law (UNCITRAL). The public meeting will take place on Wednesday, February 26, 2014 from 9:00 a.m. until 12 p.m. EST. This is not a meeting of the full Advisory Committee.

UNCITRAL's Working Group II (Arbitration and Conciliation) is currently working on the development of a convention on transparency in treaty-based investor-state arbitration. Once this negotiation is completed, however, it is unclear what the Working Group should address next. One project that has been suggested is updating the UNCITRAL Notes on Organizing Arbitral Proceedings.

The purpose of the public meeting is to obtain the views of concerned stakeholders on two topics: (1) Whether updating the Notes would be a worthwhile project for the Working Group and, if so, what areas should be addressed in such an update, and (2) which other projects, if any, related to international arbitration and conciliation UNCITRAL should undertake. Those who cannot attend but wish to comment are welcome to do so by email to Tim Schnabel at SchnabelTR@state.gov.

Time and Place: The meeting will take place from 9:00 a.m. until 12:00 p.m. in Room 4835, Harry S Truman Building, 2201 C Street NW., Washington, DC 20520. Participants should plan to arrive at the C Street entrance by 8:30 a.m. for visitor screening. If you are unable to attend the public meeting and would like to participate from a remote location, teleconferencing will be available.

Public Participation: This meeting is open to the public, subject to the capacity of the meeting room. Access to the building is strictly controlled. For pre-clearance purposes, those planning to attend should email pil@state.gov providing full name, address, date of birth, citizenship, driver's license or passport number, and email address. This information will greatly facilitate entry into the building. A member of the public needing reasonable accommodation should email pil@state.gov not later than February 19, 2014. Requests made after that date will be considered, but might not be able to be fulfilled. If you would like to participate by telephone, please email pil@state.gov to obtain the call-in number and other information.

Data from the public is requested pursuant to Public Law 99-399 (Omnibus Diplomatic Security and Antiterrorism Act of 1986), as amended; Public Law 107-56 (USA PATRIOT Act); and Executive Order 13356. The purpose of the collection is to validate the identity of individuals who enter Department facilities.

The data will be entered into the Visitor Access Control System (VACS-D) database. Please see the Security Records System of Records Notice (State-36) at http://www.state.gov/documents/organization/103419.pdf for additional information.

Dated January 30, 2014.
Timothy R. Schnabel,
Attorney-Adviser, Office of Private International Law, Office of Legal Adviser, Department of State.

[FR Doc. 2014-02706 Filed 2-6-14; 8:45 am]

BILLING CODE 4710-08-P